NUCLEAR REGULATORY COMMISSION

10 CFR Part 72

[NRC-2008-0438]

RIN 3150-AI48

List of Approved Spent Fuel Storage Casks: NAC-UMS Revision 5, Confirmation of Effective Date

AGENCY: Nuclear Regulatory Commission.

ACTION: Direct final rule: Confirmation of effective date.

SUMMARY: The Nuclear Regulatory Commission (NRC) is confirming the effective date of January 12, 2009 for the direct final rule that was published in the Federal Register on October 27, 2008 (73 FR 63621). This direct final rule amended the NRC's regulations to revise the NAC-UMS cask system listing to include Amendment No. 5 to Certificate of Compliance (CoC) No. 1015.

DATES: Effective Date: The effective date of January 12, 2009 is confirmed for this direct final rule.

ADDRESSES: Documents related to this rulemaking, including any comments received, may be examined at the NRC Public Document Room, Room O-1F23, 11555 Rockville Pike, Rockville, MD 20852.

FOR FURTHER INFORMATION CONTACT: Jayne M. McCausland, Office of Federal and State Materials and Environmental Management Programs, U.S. Nuclear Regulatory Commission, Washington, DC 20555, telephone (301) 415-6219, e-mail Jayne.McCausland@nrc.gov.

SUPPLEMENTARY INFORMATION: On October 27, 2008 (73 FR 63621), the NRC published a direct final rule amending its regulations at 10 CFR 72.214 to revise the NAC-UMS cask system listing within the “List of Approved Spent Fuel Storage Casks” to include Amendment No. 5 to CoC No. 1015. This amendment modified the CoC and Technical Specifications (TS) to incorporate certain high burnup pressurized water reactor fuel as approved contents and make changes to the TS and the Final Safety Analysis Report to enhance the loading and storage operation of the NAC-UMS storage system. In the direct final rule, NRC stated that if no significant adverse comments were received, the direct final rule would become final on January 12, 2009. The NRC did not receive any comments on the direct final rule. Therefore, this rule will become effective as scheduled.

Dated at Rockville, Maryland, this 6th day of January 2009.
For the Nuclear Regulatory Commission.
Michael T. Lesar,
Chief, Rulemaking, Directives and Editing Branch, Division of Administrative Services, Office of Administration.

[FR Doc. E9-346 Filed 1-9-09; 8:45 am]

BILLING CODE 7590-01-P